SOCIAL SECURITY ADMINISTRATION

[Docket No. SSA-2018-0052]

Privacy Act of 1974; System of Records

AGENCY: Deputy Commissioner for Communications, Social Security Administration (SSA).

ACTION: Rescindment of a system of records notice.

SUMMARY: In accordance with the Privacy Act, we are issuing public notice of our intent to discontinue an existing system of records notice entitled, Optical System for Correspondence Analysis and Response, last published on January 11, 2006.

DATES: Comments must be received no later than November 13, 2018. This rescindment will be effective upon publication in today's Federal Register.

FOR FURTHER INFORMATION CONTACT: Tristin Dorsey, Government Information Specialist, Privacy Implementation Division, Office of Privacy and Disclosure, Office of the General Counsel, Social Security Administration, Room G-401 West High Rise, 6401 Security Boulevard, Baltimore, Maryland 21235-6401, telephone: (410) 965-2950, email: tristin.dorsey@ssa.gov.

SUPPLEMENTARY INFORMATION: SSA is discontinuing the system of records 60-0002, entitled OSCAR, which was created to aid in the control of internal and external correspondence received in agency offices through various processing steps and management information regarding the correspondence process. The records will be combined and managed through an existing system of records currently titled, Assignment and Correspondence Tracking (ACT) System (60-0001), last published in full at 71 FR 1800 (January 11, 2006). SSA will rely upon the ACT system to manage internal and external correspondence and assignments received from members of the public, media, White House, Congress, and other federal agencies.

SYSTEM NAME AND NUMBER

Optical System for Correspondence Analysis and Response (OSCAR), 60-0002.

HISTORY:

71 FR 1801 (Jan. 11, 2006), Optical System for Correspondence Analysis and Response.

72 FR 69723 (Dec. 10, 2007), Optical System for Correspondence Analysis and Response.

Dated: October 2, 2018.
Mary Ann Zimmerman,
Acting Executive Director, Office of Privacy and Disclosure, Office of the General Counsel.

[FR Doc. 2018-22035 Filed 10-10-18; 8:45 am]

BILLING CODE P